DEPARTMENT OF AGRICULTURE

Submission for OMB Review; Comment Request

May 23, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Debt Settlement Policies and Procedures

OMB Control Number: 0560-0146

Summary of Collection: Debt Collection Improvement Act (DCIA) of 1996 and 4 CFR 102, Federal Claim Collection standard and other applicable regulation require each Federal agency to collect debts owed it, and to employ a cost effective and efficient procedures and methods to identify, report and collect debts. Provisions under the Federal Claims Collection Standards and the DCIA allow the debtor upon receiving a notification letter and unable to pay debt owed to the Federal Government in one lump sum, to forward a written request and financial statement to Farm Service Administration (FSA) and Commodity Credit Corporation (CCC) for establishing an agreed repayment plan in the promissory note using form CCC-279, Promissory Note.

Need and Use of the Information: FSA will collect information on the debtor's assets, liabilities, income and expenses when a debtor requests to enter into an installment agreement to settle their debt. Based on that information a determination can be made on whether the debtor can pay the debt in one lump sum or an installment is necessary. Without this financial information FSA/CCC would have no method of allowing debtor's to pay their debts in installments while still ensuring that the government's financial interests are protected.

Description of Respondents: Individuals or households.

Number of Respondents: 100.

Frequency of Responses: Reporting: On occasion.

Total Burden Hours: 200.

Farm Service Agency

Title: Assignments of Payments and Joint Payment Authorizations

OMB Control Number: 0560-0183.

Summary of Collection: The Soil Conservation and Domestic Allotment Act (16 U.S.C. 590h(g)) authorizes producers to assign, in writing, Farm Service Agency (FSA) conservation program payments. The statute requires that any such assignment be signed and witnessed. The Agricultural Act of 1949, as amended, extends that authority to Commodity Credit Corporation (CCC) programs, including rice, feed grains, cotton, and wheat. When the recipient of a FSA or CCC payment chooses to assign a payment to another party or have the payment made jointly with another party, the other party must be identified. FSA will collect information using forms CCC-36, CCC 37, CCC-251, CCC-252.

Need and Use of the Information: The information collected on the forms will be used by FSA employee in order to record the payment or contract being assigned, the amount of the assignment, the date, and the name and address of the assignee and the assignor. This is to enable FSA employee to pay the proper party when payments become due. FSA will also use the information to terminate joint payments at the request of both the producer and joint payee.

Description of Respondent: Individuals or households.

Number of Respondents: 211,826.

Frequency of Responses: Reporting; On occasion.

Total Burden Hours: 35,266.

Ruth Brown,
Departmental Information Collection Clearance Officer.

[FR Doc. 2012-12984 Filed 5-25-12; 8:45 am]

BILLING CODE 3410-05-P